ENVIRONMENTAL PROTECTION AGENCY

[OPP-2004-0024; FRL-7703-6]

Utah State Plan for Certification of Applicators of Restricted Use Pesticides; Notice of Approval

AGENCY: Environmental Protection Agency (EPA).

ACTION: Notice.

SUMMARY: In the Federal Register of January 10, 2005, EPA issued a notice of intent to approve an amended Utah Plan for the certification of applicators of restricted use pesticides. In the notice EPA solicited comments from the public on the proposed action to approve the amended Utah Plan. The amended Certification Plan Utah submitted to EPA contained several changes to its current Certification Plan. The proposed amendments add new subcategories as well as a Memorandum of Understanding regarding future implementation of an EPA federal pesticide certification program for the Navajo Indian Country. No comments were received and EPA hereby approves the amended Utah Plan.

ADDRESSES: The amended Utah Certification Plan can be reviewed at the locations listed under Unit I.B. of the SUPPLEMENTARY INFORMATION.

FOR FURTHER INFORMATION CONTACT: Barbara Barron, Pesticide Program, 8P-P3T, Environmental Protection Agency, Region VIII, 999 18th St., Suite 300, Denver, CO 80202-2466; telephone number: (303) 312-6617; e-mail address: barron.barbara@epa.gov.

SUPPLEMENTARY INFORMATION:

I. General Information

A. Does this Action Apply to Me?

This action is directed to the public in general. This action may, however, be of interest to those involved in agriculture and anyone involved with the distribution and application of pesticides for agricultural purposes. Others involved with pesticides in a non-agricultural setting may also be affected. In addition, it may be of interest to others, such as, those persons who are or may be required to conduct testing of chemical substances under the Federal Food, Drug, and Cosmetic Act (FFDCA), or the Federal Insecticide, Fungicide, and Rodenticide Act (FIFRA). Since other entities may also be interested, the Agency has not attempted to describe all the specific entities that may be affected by this action. If you have any questions regarding the applicability of this action to a particular entity, consult the person listed under FOR FURTHER INFORMATION CONTACT.

B. How Can I Get Copies of this Document and Other Related Information?

1. Docket. EPA has established an official public docket for this action under docket identification (ID) number OPP-2004-0024. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, to access the index listing of the contents of the official public docket, and to access those documents in the public docket that are available electronically. Although not all docket materials may be available electronically, you may still access any of the publicly available docket materials through the docket facility identified in Unit I.B.1. Once in the system, select “search,” then key in the appropriate docket ID number.

In addition to the sources listed in this unit, you may obtain copies of the amended Utah Certification Plan, other related documents, or additional information by contacting:

1. Barbara Barron at the address listed under FOR FURTHER INFORMATION CONTACT.

2. Jeanne Kasai, Field and External Affairs Division (7506C), Office of Pesticide Programs, Environmental Protection Agency, 1200 Pennsylvania Ave., NW., Washington, DC 20460-0001; telephone number: (703) 308-3240; e-mail address: kasai.jeanne@epa.gov.

II. What Action is the Agency Taking?

EPA is approving the amended Utah Certification Plan. This approval is based upon the EPA review of the Utah Plan and finding it in compliance with FIFRA and 40 CFR part 171. Further, there were no public comments submitted regarding the Federal Register notice of January 10, 2005 (70 FR 1708, FRL-7344-9). The amended Utah Certification Plan is therefore approved.

List of Subjects

Environmental protection, Education, Pesticides and pests.

Dated: March 28, 2005.
Robert E. Roberts,
Regional Administrator, Region VIII.

[FR Doc. 05-7720 Filed 4-15-05; 8:45 am]

BILLING CODE 6560-50-S